DEPARTMENT OF COMMERCE

National Oceanic and Atmospheric Administration

RIN 0648-XD367]

Endangered and Threatened Species; Recovery Plans

AGENCY: National Marine Fisheries Service (NMFS), National Oceanic and Atmospheric Administration, Commerce.

ACTION: Notice of availability.

SUMMARY: We, NMFS, announce the adoption of an Endangered Species Act (ESA) recovery plan (Plan) for the Snake River Sockeye Salmon (Onchorhynchus nerka) evolutionarily significant unit (ESU) which is listed as endangered under the ESA. The geographic area covered by the plan is the Sawtooth Valley in Idaho including the Upper Salmon River and its tributaries, Stanley Lake, Redfish Lake, Yellowbelly Lake, Pettit Lake, and Alturas Lake, and the migration corridor from the Sawtooth Valley to the ocean. As required under the ESA, the Plan contains objective, measurable delisting criteria, site-specific management actions necessary to achieve the plan's goals, and estimates of the time and costs required to implement recovery actions. The Endangered Species Act (ESA) Recovery Plan for Snake River Sockeye Salmon and our summary of and responses to public comments on the Plan are now available.

ADDRESSES: Electronic copies of the Plan and a summary of and response to public comments on the Plan are available on-line at http://www.westcoast.fisheries.noaa.gov/protected_species/salmon_steelhead/recovery_planning_and_implementation/snake_river/current_snake_river_recovery_plan_documents.html. A CD-ROM of these documents can be obtained by emailing a request to Bonnie. Hossack@noaa.gov with the subject line “CD ROM Request for Snake River Sockeye Salmon Recovery Plan” or by writing to NMFS Interior Columbia Basin Office, National Marine Fisheries Service, 1201 NE. Lloyd Boulevard, Suite 1100, Portland, OR 97232.

FOR FURTHER INFORMATION CONTACT: Rosemary Furfey, NMFS Snake River Sockeye Salmon Recovery Coordinator, at (503) 231-2149, or rosemary.furfey@noaa.gov.

SUPPLEMENTARY INFORMATION:

Background

We are responsible for developing and implementing recovery plans for Pacific salmon and steelhead listed under the ESA of 1973, as amended (16 U.S.C. 1531 et seq.). Recovery means that the listed species and their ecosystems are sufficiently restored, and their future secured, to the point that the protections of the ESA are no longer necessary. Section 4(f)(1) of the ESA requires that recovery plans include, to the extent practicable: (1) Objective, measurable criteria which, when met, would result in a determination that the species is no longer threatened or endangered; (2) site-specific management actions necessary to achieve the plan's goals; and (3) estimates of the time required and costs to implement recovery actions.

We believe it is essential to have local support of recovery plans by those whose activities directly affect the listed species and whose continued commitment and leadership will be needed to implement the necessary recovery actions. We therefore support and participate in locally led, collaborative efforts to develop recovery plans that involve state, tribal, and federal entities, local communities, and other stakeholders. For this Plan for endangered Snake River Sockeye Salmon, we worked collaboratively with local state, tribal, and federal partners to produce a recovery plan that satisfies the ESA requirements. We have determined that this ESA Recovery Plan for Snake River Sockeye Salmon meets the statutory requirements for a recovery plan and are adopting it as the ESA recovery plan for this endangered species.

Development of the Plan

For the purpose of recovery planning for the ESA-listed species of Pacific salmon and steelhead in Idaho, Oregon and Washington, NMFS designated five geographically based “recovery domains.” The Snake River Sockeye Salmon ESU spawning range is in the Interior Columbia domain. For each domain, NMFS appointed a team of scientists, nominated for their geographic and species expertise, to provide a solid scientific foundation for recovery plans. The Interior Columbia Technical Recovery Team included biologists from NMFS, other federal agencies, states, tribes, and academic institutions.

A primary task for the Interior Columbia Technical Recovery Team was to recommend criteria for determining when each component population with an ESU or distinct population segment (DPS) should be considered viable (i.e., when they are have a low risk of extinction over a 100-year period) and when ESUs or DPSs have a risk of extinction consistent with no longer needing the protections of the ESA. All Technical Recovery Teams used the same biological principles for developing their recommendations; these principles are described in the NOAA technical memorandum Viable Salmonid Populations and the Recovery of Evolutionarily Significant Units (McElhany et al., 2000). Viable salmonid populations (VSP) are defined in terms of four parameters: Abundance, productivity or growth rate, spatial structure, and diversity.

For this Plan, we collaborated with state, tribal and federal biologists and resource managers to provide technical information that NMFS used to write the Plan which is built upon locally-led recovery efforts. In addition, NMFS established a multi-state (Idaho, Oregon and Washington), tribal and federal partners' regional forum called the Snake River Coordination Group that addresses the four ESA-listed Snake River salmon and steelhead species. They met twice a year to be briefed and provide technical and policy-related information to NMFS. We presented regular updates on the status of this Plan to the Snake River Coordination Group and posted draft chapters on NMFS' West Coast Region Snake River recovery planning Web page.

In addition to the Plan, we developed and incorporated the Module for the Ocean Environment (Fresh et al. 2014) as Appendix B to address Snake River Sockeye Salmon recovery needs in the Columbia River estuary, plume, and Pacific Ocean. To address recovery needs related to the Lower Columbia River mainstem and estuary, we incorporated the Columbia Estuary ESA Recovery Plan Module (NMFS 2011) as Appendix C. To address recovery needs for fishery harvest management in the Salmon, Snake and Columbia Rivers mainstem, Columbia River estuary and ocean, we developed and incorporated the Harvest Module (NMFS 2014a) as Appendix D. To address recovery needs related to the Columbia River Hydropower System, we developed and incorporated the Supplemental Recovery Plan Module for Snake River Salmon and Steelhead Mainstem Columbia River Hydropower Projects (NMFS 2014b) as Appendix E of this Plan.

Contents of Plan

The Plan contains biological background and contextual information that includes description of the ESU, the planning area, and the context of the plan's development. It presents relevant information on ESU structure, guidelines for assessing salmonid population and ESU-level status, and a brief summary of Interior Columbia Technical Recovery Team products on population structure and species status. It also presents NMFS' biological viability criteria and threats criteria for delisting.

The Plan also describes specific information on the following: Current status of Snake River Sockeye Salmon; limiting factors and threats for the full life cycle that contributed to the species decline; recovery strategies and actions addressing these limiting factors and threats; key information needs, and a proposed research, monitoring, and evaluation program for adaptive management. For recovery actions, the Plan includes a table summarizing each proposed action, together with the associated location, life stage affected, estimated costs, timing and potential implementing entity. It also describes how implementation, prioritization of actions, and adaptive management will proceed at the population and ESU scales. The Plan also summarizes time and costs (Section 9 and Appendix A) required to implement recovery actions. In addition to the information in the Plan, readers are referred to the recovery plan modules (Appendices B-E) for more information on all these topics.

How NMFS and Others Expect To Use the Plan

We will commit to implement the actions in the Plan for which we have authority and funding; encourage other federal and state agencies and tribal governments to implement recovery actions for which they have responsibility, authority and funding; and work cooperatively with the public and local stakeholders on implementation of other actions. We expect the Plan to guide us and other federal agencies in evaluating federal actions under ESA section 7, as well as in implementing other provisions of the ESA and other statutes. For example, the Plan will provide greater biological context for evaluating the effects that a proposed action may have on a species by providing delisting criteria, information on priority areas for addressing specific limiting factors, and information on how future populations within the ESU can tolerate varying levels of risk.

When we are considering a species for delisting, the agency will examine whether the section 4(a)(1) listing factors have been addressed. To assist in this examination, we will use the delisting criteria described in section 3.3 of the Plan, which include both biological criteria and criteria addressing each of the ESA section 4(a)(1) listing factors, as well as any other relevant data and policy considerations.

We will also work with the proposed Snake River Sockeye Salmon Implementation and Science Team described in section 10 of the Plan to develop implementation schedules that provide greater specificity for recovery actions to be implemented over five-year periods. This Team will also help promote implementation of recovery actions and subsequent implementation schedules, and will track and report on implementation progress. The Implementation and Science Team, working together with NMFS staff, will coordinate the implementation of recovery actions among federal, state, tribal entities and local stakeholders.

Public Comments Solicited

Section 4(f) of the ESA, as amended in 1988, requires that public notice and an opportunity for public review and comment be provided prior to final approval of a recovery plan. Between July 21 and September 19, 2014, we made the Plan—including the recovery plan modules, which were included as appendices—available for public review (79 FR 42298; July 21, 2014). NMFS received a total of six comment letters on the proposed Plan from state and federal entities, as well as interested individuals.

We reviewed all comments for substantive issues and new information and have responded to the comments, both in the response-to-comments document and by making clarifying changes to relevant text in the Plan. The Plan and a summary of public comments and responses are available on the NMFS West Coast Region Web site at http://www.westcoast.fisheries.noaa.gov/protected_species/salmon_steelhead/recovery_planning_and_implementation/snake_river/current_snake_river_recovery_plan_documents.html.

Conclusion

Section 4(f)(1)(B) of the ESA requires that recovery plans incorporate, to the extent practicable, (1) objective, measurable criteria which, when met, would result in a determination that the species is no longer threatened or endangered; (2) site-specific management actions necessary to achieve the plan's goals; and (3) estimates of the time required and costs to implement recovery actions. We conclude that the Plan meets the requirements of ESA section 4(f) and adopt it as the ESA Recovery Plan for Snake River Sockeye Salmon.

Literature Cited

McElhany, P., M.H. Ruckelshaus, M.J. Ford, T.C. Wainwright, and E.P. Bjorkstedt. 2000. Viable salmon populations and the recovery of evolutionarily significant units. U.S. Dept. of Commerce, NOAA Tech. Memo., NMFS NWFSC 42, 156 p.

National Marine Fisheries Service (NMFS). 2011. Columbia River Estuary ESA Recovery Plan Module for Salmon and Steelhead. Northwest Region. January 2011. Available at: http://www.westcoast.fisheries.noaa.gov/protected_species/salmon_steelhead/recovery_planning_and_implementation/lower_columbia_river/lower_columbia_river_recovery_plan_for_salmon_steelhead.html.

Authority: 16 U.S.C. 1531 et seq.

Dated: June 2, 2015.
Angela Somma,
Chief, Endangered Species Conservation Division, Office of Protected Resources, National Marine Fisheries Service.

[FR Doc. 2015-13854 Filed 6-5-15; 8:45 am]

BILLING CODE 3510-22-P